FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 010099-057.

Title: International Council of Containership Operators.

Parties: A.P. Moller-Maersk A/S; China Shipping Container Lines Co., Ltd.; CMA CGM, S.A.; Compañía Chilena de Navegación Interoceánica S.A.; Compania Sud Americana de Vapores S.A.; COSCO Container Lines Co. Ltd; Crowley Maritime Corporation; Evergreen Marine Corporation (Taiwan), Ltd.; Hamburg-Süd KG; Hanjin Shipping Co., Ltd.; Hapag-Lloyd AG; Hyundai Merchant Marine Co., Ltd.; Kawasaki Kisen Kaisha, Ltd.; Mediterranean Shipping Co. S.A.; Mitsui O.S.K. Lines, Ltd.; Neptune Orient Lines, Ltd.; Nippon Yusen Kaisha; Orient Overseas Container Line, Ltd.; Pacific International Lines (Pte) Ltd.; United Arab Shipping Company (S.A.G.); Wan Hai Lines Ltd.; Yang Ming Transport Marine Corp.; and Zim Integrated Shipping Services Ltd.

Filing Party: John Longstreth, Esq.; K & L Gates LLP; 1601 K Street NW.; Washington, DC 20006-1600.

Synopsis: The amendment deletes Safmarine Container Lines N.V. as a subsidiary of A.P. Moller-Maersk A/S.

Agreement No.: 011275-035.

Title: Australia and New Zealand-United States Discussion Agreement.

Parties: A.P. Moller-Maersk AS, trading under the name Maersk Line; CMA CGM, S.A./ANL Singapore Pte Ltd. (acting as a single party); Hamburg-Süd KG; Hapag-Lloyd AG; and Mediterranean Shipping Company S.A.

Filing Party: Wayne R. Rohde, Esq.; Cozen O'Connor LLP; 1627 I Street NW.; Suite 1100; Washington, DC 20006-4007.

Synopsis: The amendment would update Appendix B and update references to the Australian statute which governs the agreement in Australia.

Agreement No.: 201219.

Title: The Los Angeles and Long Beach Port Infrastructure and Environmental Programs Cooperative Working Agreement.

Parties: City of Los Angeles and City of Long Beach.

Filing Party: Heather M. McCloskey, Deputy City Attorney; Los Angeles City Attorney's Office; 425 S. Palos Verdes Street; San Pedro, CA 90731.

Synopsis: The agreement would authorize the Ports of Los Angeles and Long Beach to discuss and agree upon joint programs and strategies to improve port transportation infrastructure and decrease port-related pollution emissions. The parties requested expedited review.

By Order of the Federal Maritime Commission.
Dated: January 18, 2013.
Rachel E. Dickon,
Assistant Secretary.

[FR Doc. 2013-01429 Filed 1-24-13; 8:45 am]

BILLING CODE P